DEPARTMENT OF ENERGY

10 CFR Part 430

[Docket No. EERE-2008-BT-STD-0005]

RIN 1904-AB57

Energy Efficiency Program for Consumer Products: Public Meeting and Availability of Framework Document for Battery Chargers and External Power Supplies

AGENCY: Office of Energy Efficiency and Renewable Energy, Department of Energy.

ACTION: Notice of public meeting and availability of a Framework Document.

SUMMARY: The U.S. Department of Energy (DOE) is initiating a rulemaking process to consider establishing new energy conservation standards for battery chargers and amending the energy conservation standards for Class A external power supplies, as directed by the Energy Independence and Security Act of 2007 (EISA). Accordingly, DOE will hold an informal public meeting to discuss and receive comments on its planned analytical approach and issues it will address in this rulemaking proceeding. DOE also welcomes written comments from the public concerning this rulemaking. To inform interested parties and to facilitate this process, DOE has prepared two documents: a framework document, which explains the analytical approach and identifies particular issues on which DOE is interested in receiving comment; and a draft technical report, which details DOE's research and analysis on these products to date. Copies of these and all other documents associated with this rulemaking are available at http://www.eere.energy.gov/buildings/appliance_standards/residential/battery_external.html.

DATES: DOE will hold a public meeting in Washington, DC, beginning on July 16, 2009, from 9 a.m. to 5 p.m. The agenda for the public meeting will include the energy conservation standards rulemaking on battery chargers and external power supplies. DOE must receive requests to speak at this public meeting no later than 4 p.m., Thursday, July 2, 2009. DOE must receive a signed original and an electronic copy of statements to be given at the public meeting no later than 4 p.m., Thursday, July 9, 2009. Written comments on the framework document are welcome, especially following the public meeting, and should be submitted by July 20, 2009.

ADDRESSES: The public meeting will be held at the U.S. Department of Energy, Forrestal Building, Room 1E-245, 1000 Independence Avenue, SW., Washington, DC 20585-0121. Please note that foreign nationals participating in the public meeting are subject to advance security screening procedures. If a foreign national wishes to participate in the public meeting, please inform DOE as soon as possible by contacting Ms. Brenda Edwards at (202) 586-2945 so that the necessary procedures can be completed.

Interested parties may submit comments, identified by docket number EERE-2008-BT-STD-0005 and/or Regulation Identifier Number (RIN) 1904-AB57, by any of the following methods:

• Federal eRulemaking Portal: http://www.regulations.gov. Follow the instructions for submitting comments.

• E-mail: BC&EPS_ECS@ee.doe.gov. Include docket number EERE-2008-BT-STD-0005 and/or RIN 1904-AB57 in the subject line of the message.

• Mail: Ms. Brenda Edwards, U.S. Department of Energy, Building Technologies Program, Mailstop EE-2J, Framework Document for Battery Chargers and External Power Supplies, docket number EERE-2008-BT-STD-0005 and/or RIN 1904-AB57, 1000 Independence Avenue, SW., Washington, DC 20585-0121. Please submit one signed paper original.

• Hand Delivery/Courier: Ms. Brenda Edwards, U.S. Department of Energy, Building Technologies Program, 6th Floor, 950 L'Enfant Plaza, SW., Washington, DC 20024. Please submit one signed paper original.

Instructions: All submissions received must include the agency name and docket number or RIN for this rulemaking.

Docket: For access to the docket to read background documents or comments received, go to the U.S. Department of Energy, Resource Room of the Building Technologies Program, Sixth Floor, 950 L'Enfant Plaza, SW., Washington, DC 20024, (202) 586-2945, between 9 a.m. and 4 p.m., Monday through Friday, except Federal holidays. Please call Ms. Brenda Edwards first at the above telephone number for additional information about visiting the Resource Room.

FOR FURTHER INFORMATION CONTACT: Mr. Victor Petrolati, U.S. Department of Energy, Office of Energy Efficiency and Renewable Energy, Building Technologies, EE-2J, 1000 Independence Avenue, SW., Washington, DC 20585-0121. Telephone: (202) 586-4549. E-mail: Victor.Petrolati@ee.doe.gov.

Mr. Michael Kido, U.S. Department of Energy, Office of the General Counsel, GC-72, 1000 Independence Avenue, SW., Washington, DC 20585. Telephone: (202) 586-9507. E-mail: Michael.Kido@hq.doe.gov.

For information on how to submit or review public comments and on how to participate in the public meeting, contact Ms. Brenda Edwards, U.S. Department of Energy, Office of Energy Efficiency and Renewable Energy, Building Technologies Program, EE-2J, 1000 Independence Avenue, SW., Washington, DC, 20585-0121. Telephone (202) 586-2945. E-mail: Brenda.Edwards@ee.doe.gov.

SUPPLEMENTARY INFORMATION: Title III of the Energy Policy and Conservation Act (EPCA), as amended (42 U.S.C. 6291 et seq.), sets forth a variety of provisions designed to improve energy efficiency. Part B of Title III (42 U.S.C. 6291-6309), subsequently renamed Part A, established the “Energy Conservation Program for Consumer Products Other Than Automobiles.” ¹ The consumer products subject to this program are referred to as “covered products.”

¹ This part was originally titled Part B but it was redesignated Part A in the United States Code for editorial reasons.

Section 135 of the Energy Policy Act of 2005 (EPACT 2005), Public Law 109-58, amended sections 321 and 325 of EPCA, by defining battery chargers and external power supplies and directing the Secretary to prescribe “definitions and test procedures for the power use of battery chargers and external power supplies” and to “issue a final rule that determines whether energy conservation standards shall be issued for battery chargers and external power supplies or classes of battery chargers and external power supplies.” (42 U.S.C. 6295(u)(1)(A) and (E))

On December 8, 2006, DOE complied with the first of these requirements by publishing a final rule that prescribed test procedures for a variety of products. 71 FR 71340. That rule, which is currently codified in multiple sections of the Code of Federal Regulations (CFR), included definitions and test procedures for battery chargers and external power supplies. The test procedures for battery chargers and external power supplies are found in 10 CFR Part 430, Subpart B, Appendix Y (“Uniform Test Method for Measuring the Energy Consumption of Battery Chargers”) and 10 CFR Part 430, Subpart B, Appendix Z (“Uniform Test Method for Measuring the Energy Consumption of External Power Supplies.”), respectively.

DOE subsequently published a notice of public meeting and availability of documentation for public review on December 29, 2006. 71 FR 78389. This public meeting, called a “Scoping Workshop,” discussed DOE's plans for conducting a determination analysis for battery chargers and external power supplies. The Scoping Workshop was held at DOE's Forrestal Building in Washington, DC, on January 24, 2007. Information pertaining to the Scoping Workshop can be found on DOE's Web site at http://www.eere.energy.gov/buildings/appliance_standards/residential/battery_external.html.

On December 19, 2007, Congress enacted the Energy Independence and Security Act of 2007 (EISA), Public Law 110-140, which amended, among others, sections 321, 323, and 325 of EPCA. While EPACT 2005 amended EPCA by defining an external power supply as “an external power supply circuit that is used to convert household electric current into DC current or lower-voltage AC current to operate a consumer product” (42 U.S.C. 6291(36)(A)), section 301 of EISA amended this definition by creating a subset of external power supplies called “Class A External Power Supplies”—those external power supplies that are “able to convert to only 1 AC or DC output voltage at a time” and that have “nameplate output power that is less than or equal to 250 watts.” (42 U.S.C. 6291(36)(C)(i)) Section 301 of EISA also established for these products energy conservation standards that became effective on July 1, 2008, and directed DOE to conduct an energy conservation standards rulemaking to review those standards by July 1, 2011.

Additionally, section 309 of EISA amended section 325(u)(1)(E) of EPCA by directing DOE to issue a final rule that prescribes energy conservation standards for battery chargers or classes of battery chargers or to determine that no energy conservation standard is technologically feasible and economically justified. DOE is bundling together this battery charger rulemaking proceeding with the requirement to review and consider amending the energy conservation standards for Class A external power supplies, as both rulemakings must be completed by July 1, 2011. The new rulemaking requirements contained in sections 301 and 309 of EISA effectively supersede the prior determination analysis that EPACT 2005 required DOE to conduct.

Section 309 of EISA also instructed DOE to “issue a final rule that determines whether energy conservation standards shall be issued for external power supplies or classes of external power supplies” no later than two years after EISA's enactment. (42 U.S.C. 6295(u)(1)(E)(i)(I)) Because DOE cannot conduct a determination analysis on whether it should issue energy conservation standards for a product for which standards have already been set, DOE is interpreting these sections jointly as a requirement to determine, in a separate rulemaking to be completed by December 19, 2009, whether energy conservation standards shall be issued for non-Class A external power supplies. Examples of these types of external power supplies include those with nameplate output power greater than 250 watts, those that are able to convert to more than one AC or DC output voltage at the same time, and those that are specifically excluded from coverage under the Class A external power supply definition provided by EISA by virtue of their application (e.g., EPSs used with medical devices).

Finally, section 310 of EISA established definitions for active mode, standby mode, and off mode, and directed DOE to amend its existing test procedures for both BCs and EPSs to measure the energy consumed in standby mode and off mode. (42 U.S.C. 6295(gg)(2)(B)(i)) DOE satisfied this requirement by publishing a final rule that incorporated standby and off mode measurement into the DOE test procedure. 74 FR 13318 (March 27, 2009).

To initiate the bundled battery charger and Class A external power supply rulemaking, DOE has prepared a Framework Document to explain the issues, analyses, inputs, and processes it anticipates will arise in developing new energy conservation standards for battery chargers and amended energy conservation standards for Class A external power supplies. In addition, DOE has prepared a draft technical report that presents DOE's research, analysis, and methods on both these products as part of its work on the determination analysis in 2007. The publication of this draft technical report is not intended to set any new precedent for framework document meetings. Instead, DOE believes that it may receive better comment and more precise direction from interested parties on key issues by publishing its previously developed draft analyses in conjunction with this framework document. As discussed earlier, the work on the determination was overtaken by the changes introduced by EISA, which modified both its scope and schedule.

As noted above, DOE will hold a public meeting on Thursday, July 16, 2009, in Washington, DC, to discuss the analyses presented and issues identified in the Framework Document. At the public meeting, the Department will make a number of presentations, invite discussion on the rulemaking process as it applies to battery chargers and external power supplies, and solicit comments, data, and information from participants and other interested parties. DOE will also invite comment on its preliminary analyses of battery chargers and external power supplies, as described in the draft technical report

The public meeting will be conducted in an informal, facilitated conference style. There shall be no discussion of proprietary information, costs or prices, market shares, or other commercial matters regulated by U.S. antitrust laws. A court reporter will record the proceedings of the public meeting, which will be entered into the docket for this rulemaking.

DOE encourages those who wish to participate in the public meeting to read the Framework Document and draft technical report and to be prepared to discuss their contents. Copies of both documents are available at http://www.eere.energy.gov/buildings/appliance_standards/residential/battery_external.html.

Public meeting participants need not limit their comments to the issues identified in the Framework Document. DOE is also interested in receiving comments concerning other relevant issues that participants believe would affect any energy conservation standards for these products. For example, interested parties are invited to comment on external power supplies not included in Class A. DOE is conducting a separate determination analysis rulemaking for these products, but intends to invite public comment on the scope of coverage for non-Class A external power supplies at the end of the public meeting, if time permits.

DOE invites all interested parties, whether they participate in the public meeting, to submit in writing by July 20, 2009, comments and information on matters addressed in the Framework Document and on other matters relevant to assessment of energy conservation standards for battery chargers and external power supplies.

After the public meeting and the close of the comment period on the Framework Document, DOE will begin collecting data, conducting the analyses as discussed in the Framework Document and at the public meeting, and reviewing the comments received.

DOE considers public participation to be a very important part of the process for setting energy conservation standards. DOE encourages the participation and interaction of the public during the comment period in each stage of the rulemaking process. Beginning with the Framework Document, and during each subsequent public meeting and comment period, interactions with and among members of the public provide a balanced discussion of the issues that assists DOE in the standards rulemaking process. Accordingly, anyone who would like to participate in the public meeting, receive meeting materials, or be added to the DOE mailing list to receive future notices and information regarding this and related rulemakings on battery chargers and external power supplies should contact Ms. Brenda Edwards at (202) 586-2945, or via e-mail at Brenda.Edwards@ee.doe.gov.

Issued in Washington, DC, on May 26, 2009.
Steven Chalk,
Principal Deputy Assistant Secretary, Energy Efficiency and Renewable Energy.

[FR Doc. E9-12906 Filed 6-3-09; 8:45 am]

BILLING CODE 6450-01-P